DEPARTMENT OF AGRICULTURE

Forest Service

RIN 0596-AC51

Proposed Directive on Groundwater Resource Management, Forest Service Manual 2560

AGENCY: Forest Service, USDA.

ACTION: Notice of withdrawal of proposed directive.

SUMMARY: On May 7, 2014, the Forest Service published an action proposing to amend its internal agency directives for the National Forest System (NFS), Watershed and Air Management to establish direction for management of groundwater resources on NFS lands (79 FR 25815). The proposed amendment was intended to provide internal agency direction on the consideration of groundwater resources in Agency activities, approvals, and authorizations; encourage source water protection and water conservation; establish systematic procedures for reviewing new proposals for groundwater withdrawals on NFS lands; and require the evaluation of potential impacts from groundwater withdrawals on public resources on NFS lands. That notice invited public comment on the proposal.

DATES: Not applicable.

ADDRESSES: No further comments will be accepted on this proposal.

FOR FURTHER INFORMATION CONTACT: Robert Harper, Director, Watershed, Fish, Wildlife, Air and Rare Plants Staff, (202) 205-1671.

SUPPLEMENTARY INFORMATION: The Agency has determined that its proposal does not adequately meet its needs. Therefore, the Agency hereby withdraws the proposal to amend its internal Agency directives for Watershed and Air Management to establish direction for management of groundwater resources on National Forest System lands and will engage in a public conversation to develop revised proposed directives.

The response to the proposal from conservation organizations and Tribes was generally favorable; however, States and a number of other organizations raised concerns that the proposed directive would exceed the Agency's authorities and infringe on State authorities to allocate water. The proposed directives did not, and any future actions will not, infringe on State authority, impose requirements on private landowners, or change the long-standing relationship between the Forest Service, States, and Tribes on water.

The intent of any new groundwater proposed directive or next steps would be to establish a clearer and more consistent approach to evaluating and monitoring the effects of actions on groundwater resources of the National Forest System. It is clear the Agency must have further discussions with key publics on this issue. The decision to withdraw the May 2014 groundwater proposed directives will allow these conversations to take place. The Forest Service will use the additional input received from engagements with States and other citizen groups to develop new proposed directives to create a consistent approach to evaluating and monitoring effects to groundwater resulting from actions on NFS lands.

Dated: June 15, 2015.
Thomas L. Tidwell,
Chief, Forest Service.

[FR Doc. 2015-15151 Filed 6-18-15; 8:45 am]

BILLING CODE 3411-15-P